DEPARTMENT OF ENERGY

Office of Energy Efficiency and Renewable Energy

Bio-Oil Co-Processing: Expanding the Refinery Supply System Workshop

AGENCY: Office of Energy Efficiency and Renewable Energy, Department of Energy (DOE).

ACTION: Notice of open meeting.

SUMMARY: The Department of Energy (DOE) today gives notice of an open workshop hosted by the Bioenergy Technologies Office's (BETO's) Conversion Program to discuss the current state of technology and efforts needed to understand and specify bio-oil intermediate requirements for use in petroleum refineries.

Dates and Times: Morning Session: April 3, 2014, 8:00 a.m.—12:00 p.m. Afternoon Session: April 3, 2014, 1:00 p.m.—5:00 p.m.

ADDRESSES: Renaissance New Orleans Arts Hotel, 700 Tchoupitoulas Street, New Orleans, LA 70130.

FOR FURTHER INFORMATION CONTACT: Questions may be directed to—Liz Moore at (720) 356-1392 or by email at Liz.Moore@go.doe.gov.

SUPPLEMENTARY INFORMATION: As stated in the Bioenergy Technologies Office's (BETO's) Multi-Year Program Plan, the mission of BETO is to develop and transform our renewable biomass resources into commercially viable, high-performance biofuels, bioproducts, and biopower through targeted research, development, demonstration, and deployment supported through public and private partnerships. One of the options being pursued by BETO involves developing technologies capable of producing a bio-oil intermediate to be used as a petroleum refinery feedstock, leveraging existing infrastructure. BETO wants to identify the next step(s) in gathering information about the physiochemical properties, reactivities, and compatibilities of intermediates to petroleum refineries. Understanding and specifying bio-oil intermediate requirements for use in petroleum refineries and the limitations of the distribution infrastructure are critical. The workshop will convene university, national laboratory, industry, advocacy, government, and other stakeholders from both the renewable energy and petroleum refining industries to discuss the potential for bio-oil co-processing, challenges currently facing the refining industry, and the advantages that could be realized in a co-processing partnership.

Public Participation: Members of the public are encouraged to participate in open discussion at the workshop. For registration information, visit the following Web site: http://www1.eere.energy.gov/bioenergy/bio-oil_2014_workshop.html.

Issued in Golden, CO, on March 3, 2014.
Lalida Crawford,
Contracting Officer.

[FR Doc. 2014-04842 Filed 3-4-14; 8:45 am]

BILLING CODE 6450-01-P